DEPARTMENT OF EDUCATION

[Docket ID ED-2021-FSA-0081]

Privacy Act of 1974; Matching Program

AGENCY: Federal Student Aid, Department of Education.

ACTION: Notice of a new matching program.

SUMMARY: This provides notice of the establishment of the matching program between the U.S. Department of Education (Department) and the Social Security Administration (SSA), which sets forth the terms, safeguards, and procedures under which the SSA will disclose to the Department data related to the Medical Improvement Not Expected (MINE) disability data of beneficiaries and recipients under title II and title XVI of the Social Security Act from the SSA system of records entitled the Disability Control File (DCF) and the Master Beneficiary Record (MBR). This matching program will enable the Department to contact the individuals who have a balance on a loan under title IV of the Higher Education Act of 1965, as amended (HEA), have a loan under title IV of the HEA written off due to default, or have an outstanding service or repayment obligation under the Teacher Education Assistance for College and Higher Education (TEACH) Grant Program to inform title IV borrowers and TEACH Grant recipients whom SSA identifies as disabled that ED will discharge the borrowers' title IV loans or TEACH Grant service or repayment obligations no earlier than 61 days from the date that ED sends the notification to the borrower, unless the borrower chooses to have their loans or service obligations discharged earlier or chooses to opt out of the Total and Permanent Disability (TPD) discharge within 60 days from the date that ED sends the notification to the borrower.

DATES: Submit your comments on the proposed re-establishment of the matching program on or before September 22, 2021.

The matching program will go into effect on the later of the following two dates: Thirty (30) days after the publication of this notice, on August 23, 2021, unless comments have been received from interested members of the public requiring modification and republication of the notice in which case 30 days from the date on which ED publishes a revised matching program notice in the Federal Register, or on September 30, 2021. The matching program will continue for 18 months after the effective date and may be renewed for up to an additional 12 months if, within 3 months prior to the expiration of the 18 months, the respective Data Integrity Boards of the Department and SSA determine that the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about the matching program, address them to the Brenda Vigna, Division Chief, Federal Student Aid, U.S. Department of Education, 830 First Street NE, Washington, DC 20202-5320.

Privacy Note: The Department's policy is to make all comments received from members of the public available for public viewing in their entirety on the Federal eRulemaking Portal at www.regulations.gov. Therefore, commenters should be careful to include in their comments only information that they wish to make publicly available.

FOR FURTHER INFORMATION CONTACT: Ron Bennett, Group Director Program Technical & Business Support Group, Federal Student Aid, U.S. Department of Education, 830 First Street NE, Washington, DC 20202-5320. Telephone: (202) 377-3181.

If you use a telecommunications device for the deaf (TDD) or a text telephone (TTY), you may call the Federal Relay Service (FRS), toll free, at 1-800-877-8339.

SUPPLEMENTARY INFORMATION: We provide this notice in accordance with Privacy Act of 1974, as amended (Privacy Act) (5 U.S.C. 552a); Office of Management and Budget (OMB) Final Guidance Interpreting the Provisions of Public Law 100-503, the Computer Matching and Privacy Protection Act of 1988, 54 FR 25818 (June 19, 1989); and OMB Circular No. A-108.

Participating Agencies: The U.S. Department of Education and the Social Security Administration.

Authority for Conducting the Matching Program: The Department's legal authority to enter into the matching program and to disclose information thereunder is sections 420N(c), 437(a)(1), 455(a)(1), and 464(c)(1)(F)(ii & iii) of the HEA (20 U.S.C. 1070g-2(c), 1087(a)(1), 1087e(a)(1), and 1087dd((c)(1)(F)(ii & iii)), the regulations promulgated pursuant to those sections (34 CFR 674.61(b), 682.402(c), 685.213, and 686.42(b)), and subsection (b)(3) of the Privacy Act (5 U.S.C. 552a(b)(3)).

SSA's legal authority to disclose information as part of this matching program is section 1106 of the Social Security Act (42 U.S.C. 1306), the regulations promulgated pursuant to that section (20 CFR part 401), and subsection (b)(3) of the Privacy Act (5 U.S.C. 552a(b)(3)).

Purpose(s): This matching program will enable the Department to send notices to certain borrowers of loans under title IV of the HEA and TEACH Grant recipients whom SSA identifies as disabled informing them that the Department will discharge the borrowers' title IV loans or TEACH Grant service or repayment obligations no earlier than 61 days from the date that the Department sends the notification to the borrower, unless the borrower chooses to have their loans or service obligations discharged earlier or chooses to opt out of the TPD discharge within 60 days from the date that the Department sends the notification to the borrower.

Categories of Individuals: The individuals whose records are used in the matching program are described as follows:

The Department will disclose to SSA from the system of records entitled “National Student Loan Data System (NSLDS)” (18-11-06) individuals who owe a balance on one or more title IV, HEA loans, who have a title IV, HEA loan written off due to default, or who have an outstanding service or repayment obligation under the TEACH Grant Program.

Categories of Records: The records used in the matching program are described as follows:

The Department will disclose to SSA from the system of records entitled “National Student Loan Data System (NSLDS)” (18-11-06) the name, date of birth (DOB), and Social Security number (SSN) of the individuals identified in the preceding section. These individuals will be matched with SSA data recorded in the DCF, which originate from the Supplemental Security Income Record and Special Veterans Benefits (SSR/SVB), 60-0103, and the MBR, SSA/ORSIS 60-0090, in order to provide the Department with Medical Improvement Not Expected disability data.

System(s) of Records: The Department will disclose records to SSA from its system of records identified as “National Student Loan Data System (NSLDS)” (18-11-06), as last published in the Federal Register in full on September 9, 2019 (84 FR 47265).

SSA will disclose records back to the Department from its systems of records identified as the “Disability Control File (DCF)” and the “Master Beneficiary Record (MBR).” The DCF, which originates from the SSR/SVB, 60-0103, was last fully published in the Federal Register at 71 FR 1830 on January 11, 2006, and updated on December 10, 2007 (72 FR 69723), July 3, 2018 (83 FR 31250-31251), and November 1, 2018 (83 FR 54969). The MBR, 60-0090, was last fully published in the Federal Register at 71 FR 1826 on January 11, 2006, and updated on December 10, 2007 (72 FR 69723), July 5, 2013 (78 FR 40542), July 3, 2018 (83 FR 31250-31251), and November 1, 2018 (83 FR 54969).

Subsection (b)(3) of the Privacy Act (5 U.S.C. 552a(b)(3)) authorizes a Federal agency to disclose a record about an individual that is maintained in a system of records, without the individual's prior written consent, when the disclosure is pursuant to a routine use published in a System of Records Notice (SORN) as required by 5 U.S.C. 552a(e)(4)(D) and is compatible with the purposes for which the records were collected. SSA and ED determined that their SORNs contain appropriate routine use disclosure authority and that the use is compatible with the purpose for which the information was collected.

Accessible Format: On request to Lisa Tessitore, Program Operations Specialist, Federal Student Aid, U.S. Department of Education, 830 First Street NE, Washington, DC 20202-5320. Telephone: (202) 377-3249, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

[FR Doc. 2021-18080 Filed 8-20-21; 8:45 am]

BILLING CODE 4000-01-P